NATIONAL AERONAUTICS AND SPACE ADMINISTRATION

[Notice: (19-009)]

Information Collection for TREAT Astronauts Act

AGENCY: National Aeronautics and Space Administration (NASA).

ACTION: Notice; amendment of information collection.

SUMMARY: This is an amended version of NASA's earlier Federal Register Notice which was published on March 13, 2019, Document 2019-04168, and Notice Number 84 FR 9143 (See Supplementary Information). The Office of Chief Health and Medical Officer (OCHMO), within the National Aeronautics and Space Administration (NASA) as part of its continuing effort to reduce public burden and maximize the utility of government information, provides the general public and other Federal agencies the opportunity to comment on an information collection project, as required by the Paperwork Reduction Act of 1995. This notice invites comment on an information collection project titled, “Information Collection for TREAT Astronauts Act.” The TREAT Astronauts Act is subsection 441 within the National Aeronautics and Space Administration Transition Authorization Act of 2017 (115th Congress, https://www.congress.gov/115/plaws/publ10/PLAW-115publ10.pdf).

The goal is to collect information for routine care, and develop a knowledge base on the effects of spaceflight as well as address gaps in services for medical monitoring, diagnosis and treatment of conditions associated with human space flight.

DATES: All comments should be submitted by April 25, 2019.

ADDRESSES: All comments should be addressed to Gatrie Johnson, National Aeronautics and Space Administration, 300 E Street SW, Washington, DC 20546-0001.

Instructions: All submissions received must include the agency name, if applicable.

FOR FURTHER INFORMATION CONTACT: To request additional information or to obtain a copy of the information collection plan and instruments, contact Gatrie Johnson, National Aeronautics and Space Administration, 300 E Street SW, Washington, DC 20546-0001, 202-358-1013.

SUPPLEMENTARY INFORMATION: There was an error in the Title in which “Information Collection” was added in place of “Electronic Medical Record for Implementation of” and needed to be deleted. There was an error in the second paragraph in which the words “maintain”, “digital medical records of”, “health”, “emergency treatment, and scheduled examination for active or retired astronauts in order to” needed to be deleted. These were respectively replaced with “collect information for,” “and,” “on the effects of spaceflight as well as,” “for,” to add more specificity. There was an error in the ADDRESSES section in which “Federal eRulemaking Portal: http://www.Regulations.gov. Follow the instructions on-line for submitting comments” needed to be deleted. There was an error in the Abstract section, in which “Flight medicine Clinic (FMC)” is added in place of the clinic listed as “Occupational Health Branch (OHB)” and needed to be deleted. There was an error in the Background section, in which “Collection of Information within” is added in place of “management and utilization of” and needed to be deleted. There was an error in the Background section, in which “Collection of Information within” is added in place of “management and utilization of” and needed to be deleted. There was an error in the Background section, in which “collect information from former” is added in place of “create, maintain and securely archive digital medical records and physical examination records of” and needed to be deleted. There was an error in the Background section, in which reference to records management and associated list of policies needed to be deleted. Instead the following was added in place “This information collection is conducted by clinic staff in compliance with NASA's Health Information Management System (10 HIMS) and NASA's Privacy Act System of Records Notice (SORN), consistent with NASA's privacy and information technology requirements.” There was an error in the “Method of Collection” section, in which “forms within the EMR at the JSC, FMC accessible only to authorized staff at the clinic” is added in place of “and paper” and needed to be deleted. There was an error in the Data section's Annual Number of Activities, Average number of Respondents, and Annual Responses in which “175” is added in place of “36,840” and needed to be deleted. There was an error in the Data section's Burden Hours in which “87.5” is added in place of “18,420” and needed to be deleted. There was an error in the Data section, Burden Calculation table, in which “87.5” is added in place of “18,420” and needed to be deleted. There was an error in the Data section, Burden Calculation table, in which “50” is added in place of “25.9” and needed to be deleted. There was an error in the Data section's Total Labor Burden in which “4.375” is added in place of “27,7078” and need to be deleted.

Under the Paperwork Reduction Act of 1995 (PRA) (44 U.S.C. 3501-3520), Federal agencies must obtain approval from the Office of Management and Budget (OMB) for each collection of information they conduct or sponsor. In addition, the PRA also requires Federal agencies to provide a 30-day notice in the Federal Register concerning each proposed collection of information, including each new proposed collection, each proposed extension of existing collection of information, and each reinstatement of previously approved information collection before submitting the collection to the OMB for approval. To comply with this requirement, we are publishing this notice of a proposed data collection as described below.

I. Abstract

The project includes standard use of electronic forms within the Electronic Medical Records (EMR) under NASA 10 HIMS regulations at Johnson Space Center (JSC) Flight Medicine Clinic (FMC) by authorized healthcare providers assigned to, employed by, contracted to, or under partnership agreement with the JSC, FMC.

Background and Brief Description

Collection of Information within the EMR at JSC, FMC clinics will be carried out in support of the TREAT Astronaut Act. The approved Public Law 115-10 states:

This law authorizes the National Aeronautics and Space Administration (NASA) to provide for:

• The medical monitoring and diagnosis of a former United States government astronaut or a former payload specialist for conditions that the Administrator considers potentially associated with human space flight; and

• the treatment of a former United States government astronaut or a former payload specialist for conditions that the Administrator considers associated with human space flight, including scientific and medical tests for psychological and medical conditions.

The FMC clinic staff at JSC will collect information from former Astronauts and payload specialists. This information collection is conducted by clinic staff in compliance with NASA's Health Information Management System (10 HIMS) and NASA's Privacy Act System of Records Notice (SORN), consistent with NASA's privacy and information technology requirements.

II. Method of Collection

Electronic forms within the EMR at the JSC, FMC accessible only to authorized staff at the clinic.

III. Data

Title: Information Collection for TREAT Astronauts Act. (Public Law 115-10)

OMB Number: 2700-xxxx.

Type of Review: New Clearance.

Affected Public: Astronauts and payload specialists.

Average Expected Annual Number of Activities: 175.

Average Number of Respondents per Activity: 175.

Annual Responses: 175.

Frequency of Responses: 1.

Average Minutes Per Response: 0.5 hours.

Burden Hours: 87.5.

Burden Calculation—Estimation of Respondent Burden Hours
| Number of respondents | Number of responses per respondent | Number of total responses | Response time | Respondent burden hours
Survey 1 | 175 | 1 | 175 | 0.50 | 87.5

Burden Calculation—Labor Cost of Respondent Burden
| Number of total responses | Response time | Respondent hourly wage | Labor burden per response | Total labor burden
Survey 1 | 175 | 0.50 | 50.0 | 25 | 4,375

IV. Requests for Comments

The OMB is particularly interested in comments that will help:

1. Evaluate whether the proposed collection of information is necessary for the proper performance of the functions of NASA, including whether the information will have practical utility;

2. Evaluate the accuracy of NASA's estimate of the burden of the proposed collection of information, including the validity of the methodology and assumptions used;

3. Ways to enhance the quality, utility, and clarity of the information to be collected; and

4. Minimize the burden of the collection of information on those who are to respond, including automated, electronic collection techniques or other forms of information technology.

Comments submitted in response to this notice will be summarized and included in the request for OMB approval of this information collection. They will also become a matter of public record.

Gatrie Johnson,
NASA PRA Clearance Officer.

[FR Doc. 2019-05707 Filed 3-25-19; 8:45 am]

BILLING CODE 7510-13-P